DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street SW., Washington, DC 20472, (202) 646-2903.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. * Elevation in feet (NGVD)
CALIFORNIA
Goleta (City), Santa Barbara County, (FEMA Docket No.# B-7439)
Maria Ygnacia Creek:
Approximately 900 feet downstream of Hollister Avenue | * 36
Approximately 80 feet downstream of confluence of San Antonio Creek | * 64
Maps are available for inspection at City Hall, 6500 Hollister Avenue, Goleta, California.
Santa Barbara County, (FEMA Docket No.# B-7435)
Atascadero Creek:
Approximately 4,400 feet downstream of Patterson Avenue | * 14
Approximately 2,850 feet upstream of Arroyo Road | * 83
Maria Ygnacia Creek:
At confluence with Atascadero Creek | * 27
Approximately 1,400 feet upstream of San Marcos Road | * 158
East Fork Maria Ygnacia Creek:
At confluence with Maria Ygnacia Creek | * 154
Approximately 1,450 feet upstream of a private bridge | * 250
San Antonio Creek:
At confluence with Maria Ygnacia Creek | * 68
Approximately 500 feet upstream of Cathedral Oaks Road | * 165
Maps are available for inspection at the Flood Control District Office,123 Anapamu Street, Santa Barbara, California.
SOUTH DAKOTA
Cheyenne River Sioux Tribe, Dewey and Ziebach Counties, (FEMA Docket No.# B-7439)
Bear Creek:
Approximately 5,800 feet upstream of State Route 65 | +2,345
Approximately 1,200 feet upstream of U.S. Route 212 | +2,365
Cherry Creek:
At confluence with Cheyenne River | +1,723
Approximately 7,000 feet upstream of Main Street | +1,735
Cheyenne River:
Approximately 6,200 feet upstream of confluence of Plum Creek | +1,714
Approximately 17,300 feet upstream of confluence of Cherry Creek | +1,728
Virgin Creek:
Approximately 5,800 feet downstream of U.S. Route 212 | +1,896
Approximately 3 miles upstream of U.S. Route 212 | +1,950
Maps are available for inspection at the Economic Development Center, Eagle Butte, South Dakota.

Source of flooding and location | #Depth in feet above ground. * Elevation in feet (NGVD) +Elevation in feet (NAVD). | Communities affected
SOUTH DAKOTA
Hughes County (FEMA Docket No.# B-7435)
Missouri River:
Approximately 8 miles downstream from the confluence with Higers Gulch | +1,425 | Hughes County (Uninc. Areas), and City of Pierre
Approximately 3 miles upstream of the confluence with the Whisky Gulch | +1,431 |
ADDRESSES
Unincorporated Areas Hughes County
Maps are available for inspection at City Hall, 222 East Dakota Avenue, Pierre, South Dakota.
City of Pierre
Maps are available for inspection at City Hall, 222 East Dakota Avenue, Pierre, South Dakota.
Stanley County (FEMA Docket No.# B-7435)
Missouri River:
Approximately 8 miles downstream from the confluence with the Bad River | +1,425 | Stanley County (Uninc. Areas), and City of Fort Pierre
Approximately 4 miles upstream of the confluence with the Bad River | +1,431 |
ADDRESSES
Unincorporated Areas Stanley County
Maps are available for inspection at 8 East Second Avenue, Fort Pierre, South Dakota.
City of Fort Pierre
Maps are available for inspection at 8 East Second Avenue, Fort Pierre, South Dakota.
Charles Mix County (FEMA Docket No.# B-7439)
Unnamed Creek (near Wagner):
Approximately 400 feet upstream of 396th Avenue | * 1,413 | Yankton Sioux Tribe and City of Wagner
Approximately 600 feet downstream of 394th Avenue | * 1,458
Left Bank Tributary of Mosquito Creek (near Marty):
Approximately 1,400 feet downstream of 303rd Street | * 1,434 | Yankton Sioux Tribe
Approximately 1,950 feet upstream of 303rd Street | * 1,458 |
ADDRESSES
Yankton Sioux Tribe
Maps are available for inspection at 100 North Main Street, Marty, South Dakota.
City of Wagner:
Maps are available for inspection at City Hall, 106 Sheridan Avenue, Southeast, Wagner, South Dakota.

Source of flooding and location | #Depth in feet above ground. * Elevation in feet (NGVD) +Elevation in feet (NAVD). | Communities affected
NORTH DAKOTA AND SOUTH DAKOTA
Standing Rock Indian Reservation (FEMA Docket No.# B-7441)
Cannonball River:
Approximately 4,300 feet downstream of Rice Street | +1,658 | Standing Rock Indian Reservation, ND and City of Solen
Approximately 7,700 feet upstream of Rice Street | +1,668
Grand River (at Bullhead):
Approximately 4,000 feet downstream of confluence of Rock Creek | +1,759 | Standing Rock Indian Reservation, SD
Approximately 4,600 feet upstream of confluence of Stink Creek | +1,774
Grand River (at Little Eagle):
Approximately 3.4 miles downstream of the State Route 63 | +1,638 | Standing Rock Indian Reservation, SD
Approximately 2,000 feet upstream of Old Irrigation Dam | +1,651
Oak Creek:
Approximately 7,500 feet downstream of Sewage Lagoons | +1,622 | Standing Rock Indian Reservation, SD
Approximately 2,900 feet upstream of Old Irrigation Dam | +1,646
Rock Creek:
At confluence with Grand River (at Bullhead) | +1,761 | Standing Rock Indian Reservation, SD
Approximately 7,500 feet upstream of Bullhead Road | +1,793
ADDRESSES
Standing Rock Indian Reservation, ND and SD
Maps are available for inspection at the Department of Tribal Land Management, South River Road, Fort Yates, North Dakota.
City of Solen
Maps are available for inspection at the Engineering Department, 306 Leach Street, Solen, North Dakota.

(Catalog of Federal Domestic Assistance No. 83.100, “Flood Insurance”)
Dated: December 24, 2003.
Anthony S. Lowe,
Mitigation Division Director, Emergency Preparedness and Response Directorate.

[FR Doc. 04-166 Filed 1-5-04; 8:45 am]

BILLING CODE 6718-04-P